SMALL BUSINESS ADMINISTRATION

Data Collection Available for Public Comments

AGENCY: Small Business Administration.

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before April 19, 2022.

ADDRESSES: Send all comments to Daniel Upham, Chief, Microenterprise Development Division, Daniel.upham@sba.gov Small Business Administration.

FOR FURTHER INFORMATION CONTACT: Daniel Upham, Chief, Microenterprise Development Division Daniel.upham@sba.gov, 202-205-7001, or Curtis B. Rich, Management Analyst, 202-205-7030, curtis.rich@sba.gov.

SUPPLEMENTARY INFORMATION: This information collection is reported to SBA's Office Credit Risk Management (OCRM) by SBA's 7(A) Lenders, Certified Development Companies, Microloan Lenders, and Non-Lending Technical Assistance Providers. OCRM uses the information reported to facilitate its oversight and monitoring of these groups, including their overall performance on SBA loans and their compliance with the applicable program requirements.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0365.

Title: SBA Lender Reporting Requirements.

Description of Respondents: SBA 7(A) Lenders, Certified Development Companies, Microloan Lenders, and Non-Lending Technical Assistance Providers.

Form Number: N/A.

Total Estimated Annual Responses: 2,300.

Total Estimated Annual Hour Burden: 21,000.

Curtis Rich,
Management Analyst.

[FR Doc. 2022-03508 Filed 2-17-22; 8:45 am]

BILLING CODE 8026-03-P